DEPARTMENT OF TRANSPORTATION

Federal Aviation Administration

14 CFR Part 39

[Docket No. FAA-2017-0608; Directorate Identifier 2017-CE-017-AD]

RIN 2120-AA64

Airworthiness Directives; Textron Aviation Inc. Airplanes

AGENCY: Federal Aviation Administration (FAA), DOT.

ACTION: Notice of proposed rulemaking (NPRM).

SUMMARY: We propose to adopt a new airworthiness directive (AD) for certain Textron Aviation Inc. Model 390 airplanes (type certificate previously held by Beechcraft Corporation). This proposed AD was prompted by reports of hydraulic fluid loss from the engine driven pumps (EDPs) on three different airplanes. This proposed AD would require an inspection to determine if an affected EDP is installed with replacement as necessary. We are proposing this AD to address the unsafe condition on these products.

DATES: We must receive comments on this proposed AD by August 4, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Textron Aviation Inc., Textron Aviation Customer Service, P.O. Box 7706, Wichita, Kansas 67277; telephone: (316) 517-5800; email: premier@txtav.com; Internet: www.txtavsupport.com. You may view this service information at the FAA, Small Airplane Directorate, 901 Locust, Kansas City, Missouri 64106. For information on the availability of this material at the FAA, call (816) 329-4148.

Examining the AD Docket

You may examine the AD docket on the Internet at http://www.regulations.gov by searching for and locating Docket No. FAA-2017-0608; or in person at the Docket Management Facility between 9 a.m. and 5 p.m., Monday through Friday, except Federal holidays. The AD docket contains this NPRM, the regulatory evaluation, any comments received, and other information. The street address for the Docket Office (phone: 800-647-5527) is in the ADDRESSES section. Comments will be available in the AD docket shortly after receipt.

FOR FURTHER INFORMATION CONTACT: Paul C. DeVore, Aerospace Engineer, Wichita Aircraft Certification Office, 1801 Airport Road, Room 100, Wichita, Kansas 67209; telephone: (316) 946-4142; fax: (316) 946-4107, email: paul.devore@faa.gov or Wichita-COS@faa.gov.

SUPPLEMENTARY INFORMATION:

Comments Invited

We invite you to send any written relevant data, views, or arguments about this proposal. Send your comments to an address listed under the ADDRESSES section. Include “Docket No. FAA-2017-0608; Directorate Identifier 2017-CE-017-AD” at the beginning of your comments. We specifically invite comments on the overall regulatory, economic, environmental, and energy aspects of this NPRM. We will consider all comments received by the closing date and may amend this NPRM because of those comments.

We will post all comments we receive, without change, to http://www.regulations.gov, including any personal information you provide. We will also post a report summarizing each substantive verbal contact we receive about this NPRM.

Discussion

We received reports of hydraulic fluid loss from the engine driven pumps (EDPs) on three different Textron Aviation Inc. Model 390 airplanes. In one incident, the airplane exited the runway at a high speed, resulting in extensive damage to the airplane. One manufacturing lot of EDPs has excessive pitting in the aluminum port caps that could cause multiple-origin fatigue cracking of the port caps. Flammable hydraulic fluid could leak into the engine compartment, and the leaking could also cause loss of all normal hydraulic functions, including normal anti-skid braking, ground spoilers, speedbrakes, and normal landing gear extension. This condition, if not corrected, could result in loss of normal hydraulic functions, which could lead to a high-speed runway overrun and/or an in-flight fire.

Related Service Information Under 1 CFR Part 51

We reviewed Parker Service Bulletin 66179-29-486, dated August 4, 2016, which identifies the affected serial number EDPs. We also reviewed Beechcraft Mandatory Service Bulletin SB 29-4161, dated November 18, 2016, which describes procedures for determining if an affected serial number EDP is installed and procedures for replacing the EDP if necessary. This service information is reasonably available because the interested parties have access to it through their normal course of business or by the means identified in the ADDRESSES section.

FAA's Determination

We are proposing this AD because we evaluated all the relevant information and determined the unsafe condition described previously is likely to exist or develop in other products of the same type design.

Proposed AD Requirements

This proposed AD would require accomplishing the actions specified in the service information described previously except as discussed under “Differences Between this Proposed AD and the Service Information.”

Differences Between This Proposed AD and the Service Information

The service information specifies a compliance time of 200 hours time-in-service (TIS) or 12 months, whichever occurs first. This proposed AD would require a compliance of 100 hours TIS to reduce the possibility of another incident due to a cracked EDP. We removed the 12 month calendar time from the compliance time because we determined the unsafe condition is related to flight hours of the airplane rather than calendar time. The requirements of this proposed AD take precedence over the requirements of the service information.

Costs of Compliance

We estimate that this proposed AD affects 179 airplanes of U.S. registry.

We estimate the following costs to comply with this proposed AD:

Estimated Costs
Action | Labor cost | Parts cost | Cost per product | Cost on U.S. operators
Inspection to determine if affected serial number EDP is installed | .5 work-hour × $85 per hour = $42.50 | Not applicable | $42.50 | $7,607.50

We estimate the following costs to do any necessary replacement that would be required based on the results of the proposed inspection. We estimate the affected manufacturer lot of EDPs as 28 EDPs. If an airplane has two of the affected EDPs installed, both EDPs must be replaced. However, no more than a total of 28 EDPs will require replacing for the U.S. fleet:

On-Condition Costs
Action | Labor cost | Parts cost | Cost per product
Replacement of the EDP | 3 work-hours × $85 per hour = $255 | $17,388 | $17,643

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Textron Aviation Inc.: Docket No. FAA-2017-0608; Directorate Identifier 2017-CE-017-AD.

(a) Comments Due Date

We must receive comments by August 4, 2017.

(b) Affected ADs

None.

(c) Applicability

This AD applies to Textron Aviation Inc. (type certificate previously held by Beechcraft Corporation) Model 390 airplanes; serial numbers RB-4 through RB-295; certificated in any category.

(d) Subject

Joint Aircraft System Component (JASC)/Air Transport Association (ATA) of America Code 29, Hydraulic Power.

(e) Unsafe Condition

This AD was prompted by reports of hydraulic fluid loss from the engine driven pumps (EDPs) on three different airplanes. We are issuing this AD to prevent cracking of the EDP that could cause leakage of hydraulic fluid and possibly lead to loss of normal hydraulic functions, which could lead to a high-speed runway overrun and/or an in-flight fire.

(f) Compliance

Comply with this AD within the compliance times specified, unless already done.

(g) Inspection

Within 100 hours time-in service (TIS) after the effective date of this AD, inspect the airplane to determine if any affected serial number EDP, part number (P/N) 66179-01 (Beechcraft/Textron P/N 390-389022-0003), is installed on the airplane following the Accomplishment Instructions in Beechcraft Mandatory Service Bulletin SB 29-4161, dated November 18, 2016. Use table 1 in Parker Service Bulletin 66179-29-486, dated August 4, 2016, to identify the affected serial numbers of EDP, P/N 66179-01 (Beechcraft/Textron P/N 390-389022-0003).

(h) Replacement

If any affected serial number EDP was found during the inspection required in paragraph (g) of this AD, within 100 hours TIS after the effective date of this AD, replace any affected serial number EDP, P/N 66179-01 (Beechcraft/Textron P/N 390-389022-0003), with a serviceable serial number EDP, P/N 66179-01 (Beechcraft/Textron P/N 390-389022-0003) that is either not listed in table 1 in Parker Service Bulletin 66179-29-486, dated August 4, 2016, or has been reworked following Parker Service Bulletin 66179-29-486, dated August 4, 2016. Use the Accomplishment Instructions in Beechcraft Mandatory Service Bulletin SB 29-4161, dated November 18, 2016, to do the replacement actions.

(i) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (j)(1) of this AD.

(2) Before using any approved AMOC, notify your appropriate principal inspector, or lacking a principal inspector, the manager of the local flight standards district office/certificate holding district office.

(j) Related Information

(1) For more information about this AD, contact Paul C. DeVore, Aerospace Engineer, Wichita ACO, 1801 Airport Road, Room 100, Wichita, Kansas 67209; telephone: (316) 946-4142; fax: (316) 946-4107, email: paul.devore@faa.gov or Wichita-COS@faa.gov.

(2) For service information identified in this AD, contact Textron Aviation Inc., Textron Aviation Customer Service, P.O. Box 7706, Wichita, Kansas 67277; telephone: (316) 517-5800; email: premier@txtav.com; Internet: www.txtavsupport.com; Internet: www.txtav.com. You may view this referenced service information at the FAA, Small Airplane Directorate, 901 Locust, Kansas City, Missouri 64106. For information on the availability of this material at the FAA, call (816) 329-4148.

Issued in Kansas City, Missouri, on June 9, 2017.
Robert Busto,
Acting Manager, Small Airplane Directorate, Aircraft Certification Service.

[FR Doc. 2017-12512 Filed 6-19-17; 8:45 am]

BILLING CODE 4910-13-P